FEDERAL RESERVE SYSTEM

Consumer Advisory Council; Solicitation of Nominations for Membership

AGENCY: Board of Governors of the Federal Reserve System.

ACTION: Notice.

SUMMARY: The Board is inviting the public to nominate qualified individuals for appointment to its Consumer Advisory Council, whose membership represents interests of consumers, communities, and the financial services industry. New members will be selected for three-year terms that begin in January 2010. The Board expects to announce the selection of new members in early January.

DATES: Nominations must be received by August 28, 2009. Nominations not received by August 28 may not be considered.

ADDRESSES: Nominations must include a résumé for each nominee. Electronic nominations are preferred. The appropriate form can be accessed at: https://www.federalreserve.gov/secure/forms/cacnominationform.cfm.

If electronic submission is not feasible, the nominations can be mailed (not sent by facsimile) to Joseph Firschein, Assistant Director and Community Affairs Officer, Division of Consumer and Community Affairs, Board of Governors of the Federal Reserve System, Washington, DC 20551.

FOR FURTHER INFORMATION CONTACT: Jennifer Kerslake, Secretary of the Council, Division of Consumer and Community Affairs, (202) 452-6470, Board of Governors of the Federal Reserve System, Washington, DC 20551.

SUPPLEMENTARY INFORMATION: The Consumer Advisory Council was established in 1976 at the direction of the Congress to advise the Federal Reserve Board on the exercise of its duties under the Consumer Credit Protection Act and on other consumer-related matters. The Council by law represents the interests both of consumers and of the financial services industry (15 U.S.C. 1691(b)). Under the Rules of Organization and Procedure of the Consumer Advisory Council (12 CFR 267.3), members serve three-year terms that are staggered to provide the Council with continuity.

New members will be selected for terms beginning January 1, 2010, to replace members whose terms expire in December 2009. The Board expects to announce its appointment of new members in early January.

Nomination letters should include:

• A résumé for each nominee;

• nominee's full name, organizational affiliation, title, address, phone and fax numbers, and email address;

• nominee organization's name, brief description of organization, address, and phone and fax numbers;

• information about past and present positions held by the nominee, dates, and description of responsibilities;

• a description of the nominee's special knowledge, interests, or experience related to community development and reinvestment, consumer protection regulations, consumer credit, or other consumer financial services issues;

• positions held in community organizations and on councils and boards; and

• nominator's full name, organizational affiliation, title, address, phone and fax numbers, and e-mail address.

Individuals may nominate themselves.

The Board is interested in candidates who have familiarity with consumer financial services, community development and reinvestment, and consumer protection regulations, and who are willing to express their views. Candidates do not have to be experts on all levels of consumer financial services or community reinvestment, but they should possess some basic knowledge of the issues. They must be able and willing to make the necessary time commitment to participate in conference calls, and prepare for and attend meetings three times a year (usually for two days, including committee meetings). The meetings are held at the Board's offices in Washington, DC. The Board pays travel expenses, lodging, and a nominal honorarium.

In making the appointments, the Board will seek to complement the background of continuing Council members in terms of affiliation and geographic representation and to ensure the representation of women and minority groups. The Board may consider prior years' nominees and does not limit consideration to individuals nominated by the public when making its selection.

Council members whose terms end as of December 31, 2009, are:

Jason Engel, Vice President and Chief Regulatory Counsel, Experian, Costa Mesa, California.

Joseph L. Falk, Consultant, Akerman Senterfitt, Miami, Florida.

Louise J. Gissendaner, Senior Vice President, Director of Community Development, Fifth Third Bank, Cleveland, Ohio.

Patricia A. Hasson, President, Consumer Credit Counseling Service of Delaware Valley, Inc., Philadelphia, Pennsylvania.

Thomas P. James, Senior Assistant Attorney General, Consumer Counsel, Consumer Fraud Bureau, Office of the Illinois Attorney General, Chicago, Illinois.

Edna Sawady, Economic Inclusion Consultant, New York, New York.

H. Cooke Sunoo, Director, Asian Pacific Islander Small Business Program, Los Angeles, California.

Stergios “Terry” Theologides, Executive Vice President, General Counsel, Saxon Mortgage, Irving, Texas.

Linda Tinney, Vice President, Community Development, West Metro Region Manager, U.S. Bank, Denver, Colorado.

Luz L. Urrutia, Chief Executive Officer and President, El Banco de Nuestra Comunidad, Roswell, Georgia.

Council members whose terms continue through 2010 and 2011 are:

Paula Bryant-Ellis, Senior Vice President, Community Development Banking Group, BOK Financial Corporation, Tulsa, Oklahoma.

Michael Calhoun, President, Center for Responsible Lending, Durham, North Carolina.

Alan Cameron, President and Chief Executive Officer, Idaho Credit Union League, Boise, Idaho.

John Carey, Executive Vice President and Chief Administrative Officer, Citi Cards, Long Island City, New York.

Patricia Garcia Duarte, President and Chief Executive Officer, Neighborhood Housing Services of Phoenix, Inc., Phoenix, Arizona.

Kathleen Engel, Associate Professor of Law, Cleveland-Marshall College of Law, Cleveland, Ohio.

Betsy E. Flynn, President and Vice Chairman, Community Financial Services Bank, Benton, Kentucky.

Ira Goldstein, Director, Policy and Information Services, The Reinvestment Fund, North Philadelphia, Pennsylvania.

Greta Harris, Vice President—Southeast Region, Local Initiatives Support Corporation, Richmond, Virginia.

Kirsten Keefe, Senior Staff Attorney, Empire Justice Center, Albany, New York.

Lorenzo Littles, Dallas Director, Enterprise Community Partners, Inc., Dallas, Texas.

Larry Litton, Jr., President and Chief Executive Officer, Litton Loan Servicing, LP, Houston, Texas.

Saurabh Narain, Chief Fund Advisor, National Community Investment Fund, Chicago, Illinois.

Andres Navarrete, Senior Vice President, Chief Counsel—National Lending, Capital One Financial Corporation, McLean, Virginia.

Jim Park, President and Chief Executive Officer, New Vista Asset Management, San Diego, California.

Ronald Phillips, President, Coastal Enterprises, Inc., Wiscasset, Maine.

Kevin Rhein, Division President, Wells Fargo Card Services, Minneapolis, Minnesota.

Shanna Smith, President and Chief Executive Officer, National Fair Housing Alliance, Washington, District of Columbia.

Jennifer Tescher, Director, Center for Financial Services Innovation, Chicago, Illinois.

Mary Tingerthal, President, Capital Markets Companies, Housing Partnership Network, St. Paul, Minnesota.

Board of Governors of the Federal Reserve System, June 17, 2009.
Jennifer J. Johnson,
Secretary of the Board.

[FR Doc. E9-14606 Filed 6-19-09; 8:45 am]

BILLING CODE 6210-01-P